DEPARTMENT OF HOMELAND SECURITY

Office of the Secretary

[Docket No. DHS-2006-0080]

Notice of Meeting of National Infrastructure Advisory Council (NIAC)

AGENCY: Directorate for Preparedness, DHS.

ACTION: Notice of meeting.

SUMMARY: The National Infrastructure Advisory Council (NIAC) will meet in open session.

DATES: Tuesday, January 16, 2007, from 1:30 p.m. to 4:30 p.m.

ADDRESSES: National Press Club, 529 14th Street, NW., Washington, DC 20045.

You may submit comments, identified by DHS-2006-0080, by one of the following methods:

• Federal eRulemaking Portal: http://www.regulations.gov. Follow the instructions for submitting comments.

• E-mail: william.corcoran@associates.dhs.gov. When submitting comments electronically, please include by DHS-2006-0080, in the subject line of the message.

• Mail: Jenny Menna, Department of Homeland Security, Directorate for Preparedness, Washington, DC 20528. To ensure proper handling, please reference by DHS-2006-0080, on your correspondence. This mailing address may be used for paper, disk or CD-ROM submissions.

• Hand Delivery/Courier: Jenny Menna, Department of Homeland Security, Directorate for Preparedness, Washington, DC 20528. Contact Telephone Number 703-235-5316.

Instructions: All submissions received must include the words “Department of Homeland Security” and DHS-2006-0080, the docket number for this action. Comments received will be posted without alteration at www.regulations.gov, including any personal information provided.

Docket: For access to the docket to read background documents or comments received, go to http://www.regulations.gov.

FOR FURTHER INFORMATION CONTACT: Jenny Menna, NIAC Designated Federal Officer, Department of Homeland Security, Washington, DC 20528; telephone 703-235-5316.

SUPPLEMENTARY INFORMATION: Notice of this meeting is given under the Federal Advisory Committee Act (FACA), Pub. L. 92-463, as amended (5 U.S.C. App.). At this meeting, the NIAC will be briefed on the status of several Working Group activities in which the Council is currently engaged.

Due to a clerical error at DHS, this Notice was not published in the Federal Register in a timely fashion. However, because of scheduling concerns, it is impossible for DHS to reschedule the meeting; accordingly, this Notice is presented late pursuant to 41 CFR 102-3.150(b). In light of the late publication, DHS is making additional outreach efforts to notify stakeholders of this meeting.

This meeting is open to the public on a first-come, first-served basis. Please note that the meeting may close early if all business is finished.

A tentative agenda for the meeting is set forth below, but may be updated. Please consult the NIAC Web site, http://www.dhs.gov/niac, for the most current agenda. Information on Services for Individuals with Disabilities: For information on facilities or services for individuals with disabilities, or to request special assistance at the meeting, telephone the Designated Federal Officer as soon as possible.

Dated: January 5, 2007.
Mary Kate Whalen,
Deputy Associate General Counsel for Regulatory Affairs.

Draft Agenda of January 16, 2007 Meeting
I. Opening of Meeting | Jenny Menna, Designated Federal Officer, NIAC, Department of Homeland Security.
II. Roll Call of Members | Jenny Menna.
III. Opening Remarks and Introductions | NIAC Chairman, Erle A. Nye, Chairman Emeritus, TXU and Corp.
| Michael Chertoff, Secretary, Department of Homeland Security (DHS), (Invited).
| Michael O. Leavitt, Secretary, Department of Health and Human Services (Invited).
| Frances Fragos Townsend, Assistant to the President for Homeland Security and Counterterrorism (Invited).
IV. Approval of October Minutes | NIAC Chairman, Erle A. Nye.
V. Final Reports and Deliberations | NIAC Chairman, Erle A. Nye Presiding.
A. Convergence of Physical and Cyber Technologies and Related Security Management Challenges | George Conrades, Executive Chairman, Akamai of Technologies, NIAC Member, Margaret Grayson, President, Grayson and Associates, NIAC Member, and Gregory A. Peters, Managing Partner, Collective IQ, NIAC Member.
B. Deliberation and Approval of Recommendations of Final Report | NIAC Members.
C. The Prioritization of Critical Infrastructures for a Pandemic Outbreak in the United States | Chief Rebecca F. Denlinger, Fire Chief, Cobb County, Georgia Fire and Emergency Services, NIAC Member, Martha H. Marsh, Chairman and CEO, Stanford Hospital and Clinics, NIAC Member and Bruce Rohde, Chairman and CEO Emeritus, ConAgra Foods, Inc.
D. Deliberation and Approval of Recommendations of Final Report | NIAC Members.
VI. New Business | NIAC Chairman, Erle A. Nye, NIAC Members TBD.
A. Introduction of New Working Group Topic: Assessment of the Insider Threat on Critical Infrastructure | NIAC Members TBD.
B. Recommendation Follow-up | Greg Garcia, Assistant Secretary for Cyber Security and Telecommunications, DHS (Invited).
VII. Adjournment | NIAC Chairman, Erle A. Nye.

[FR Doc. 07-59 Filed 1-5-07; 4:30 pm]

BILLING CODE 4410-10-P